DEPARTMENT OF HEALTH AND HUMAN SERVICES

Center for Medicare and Medicaid Services

[Document Identifier: CMS-37]

Emergency Clearance: Public Information Collection Requirements Submitted to the Office of Management and Budget (OMB)

Agency: Center for Medicare and Medicaid Services, HHS.

In compliance with the requirement of section 3506(c)(2)(A) of the Paperwork Reduction Act of 1995, the Center for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. We cannot reasonably comply with the normal clearance procedures because of possible public harm.

CMS is proposing to minimize disruption to State operations and the reduction of unnecessary expenditures to the Federal government by modifying the collection requirements associated with the CMS-37 information collection package. In particular, CMS will begin to require the States to submit up-front documentation to support the budget and expenditure information currently captured on the CMS-37 “Medicaid Program Budget Report”. This will enable CMS to identify and resolve any potential funding and/or expenditure issues with the States prior to the budget actually being formulated and/or implemented and the expenditures actually paid and claimed by the States.

CMS is requesting OMB review and approval of this collection by January 9, 2004, with a 180-day approval period. Written comments and recommendations will be accepted from the public if received by the individuals designated below by January 8, 2004.

Type of Information Collection Request: Revision of a currently approved collection; Title of Information Collection: Medicaid Program Budget Report; Form No.: CMS-37, OMB # 0938-0101; Use: The Medicaid Program Budget Report is prepared by the State Medicaid Agencies and is used by CMS for (1) developing National Medicaid Budget estimates, (2) qualification of Budget Assumptions, (3) the issuance of quarterly Medicaid Grant Awards, and (4) collection of projected State receipts of donations and taxes; Frequency: Quarterly; Affected Public: State, local, and/or tribal governments; Number of Respondents: 56; Total Annual Responses: 224; Total Annual Hours: 8,064.

We have submitted a copy of this notice to OMB for its review of these information collections. To obtain copies of the supporting statement and any related forms for the proposed paperwork collections referenced above, E-mail your request, including your address, phone number, OMB number, and CMS document identifier, to Jburke3@cms.hhs.gov, or call the Reports Clearance Office on (410) 786-4194.

Interested persons are invited to send comments regarding the burden or any other aspect of these collections of information requirements. However, as noted above, comments on these information collection and recordkeeping requirements must be mailed and/or faxed to the designees referenced below, by January 8, 2004:

CMS, Office of Strategic Operations and Regulatory Affairs, Division of Regulations Development and Issuances, Attention: Julie Brown, CMS-37, Room C5-16-03, 7500 Security Boulevard, Baltimore, Maryland 21244-1850.

and

Office of Information and Regulatory Affairs, Office of Management and Budget, Room 10235, New Executive Office Building, Washington, DC 20503, Fax Number: (202) 395-6974 or (202) 395-5167, Attn: Brenda Aguilar, CMS Desk Officer (CMS-37).

Dated: December 29, 2003.
John P. Burke III,
CMS Reports Clearance Officer, Office of Strategic Operations and Regulatory Affairs, Division of Regulations Development and Issuances.

[FR Doc. 04-382 Filed 1-5-04; 3:11 pm]

BILLING CODE 4120-03-P